DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of all current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, U.S. Department of Homeland Security, Office of the General Counsel, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sep. 19, 1980) and Executive Order 12866 “Regulatory Planning and Review” (Sep. 30, 1993) as incorporated in Executive Order 13563 “Improving Regulation & Regulatory Review” (Jan. 18, 2011), which require the Department to publish a semiannual agenda of regulations. The regulatory agenda is a summary of all current and projected rulemakings, as well as actions completed since the publication of the last regulatory agenda for the Department. DHS's last semiannual regulatory agenda was published on June 13, 2014, at 79 FR 34068.

Beginning in fall 2007, the Internet became the basic means for disseminating the Unified Agenda. The complete Unified Agenda is available online at www.reginfo.gov.

As part of the Unified Agenda, Federal agencies are also required to prepare a Regulatory Plan of the most important significant regulatory actions that the agency reasonably expects to issue in proposed or final form in that fiscal year. As in past years, for fall editions of the Unified Agenda, the entire Regulatory Plan and agency regulatory flexibility agendas, in accordance with the publication requirements of the Regulatory Flexibility Act, are printed in the Federal Register.

The Regulatory Flexibility Act (5 U.S.C. 602) requires Federal agencies to publish their regulatory flexibility agenda in the Federal Register. A regulatory flexibility agenda shall contain, among other things, “a brief description of the subject area of any rule which is likely to have a significant economic impact on a substantial number of small entities.” DHS's printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: September 18, 2014.
Christina E. McDonald,
Associate General Counsel for Regulatory Affairs.

Office of the Secretary—Final Rule Stage
Sequence No. | Title | Regulation Identifier No.
330 | Ammonium Nitrate Security Program (Reg Plan Seq No. 68) | 1601-AA52
References in boldface appear in The Regulatory Plan in part II of this issue of the Federal Register.

Office of the Secretary—Long-Term Actions
Sequence No. | Title | Regulation Identifier No.
331 | Chemical Facility Anti-Terrorism Standards (CFATS) | 1601-AA69

U.S. Citizenship and Immigration Services—Proposed Rule Stage
Sequence No. | Title | Regulation Identifier No.
332 | Administrative Appeals Office: Procedural Reforms to Improve Efficiency (Reg Plan Seq No. 72) | 1615-AB98
References in boldface appear in The Regulatory Plan in part II of this issue of the Federal Register.

U.S. Coast Guard—Proposed Rule Stage
Sequence No. | Title | Regulation Identifier No.
333 | Numbering of Undocumented Barges | 1625-AA14
334 | Updates to Maritime Security | 1625-AB38

U.S. Coast Guard—Final Rule Stage
Sequence No. | Title | Regulation Identifier No.
335 | Vessel Requirements for Notices of Arrival and Departure, and Automatic Identification System (Reg Plan Seq No. 78) | 1625-AA99
336 | Inspection of Towing Vessels (Reg Plan Seq No. 79) | 1625-AB06
337 | Transportation Worker Identification Credential (TWIC); Card Reader Requirements (Reg Plan Seq No. 80) | 1625-AB21
338 | MARPOL Annex 1 Update | 1625-AB57
339 | Commercial Fishing Vessels—Implementation of 2010 and 2012 Legislation | 1625-AB85
References in boldface appear in The Regulatory Plan in part II of this issue of the Federal Register.

U.S. Coast Guard—Long-Term Actions
Sequence No. | Title | Regulation Identifier No.
340 | Outer Continental Shelf Activities | 1625-AA18

U.S. Coast Guard—Completed Actions
Sequence No. | Title | Regulation Identifier No.
341 | Lifesaving Devices: Uninspected Vessels, Commercial Barges, and Sailing Vessels (Completion of a Section 610 Review) | 1625-AB83

U.S. Customs and Border Protection—Final Rule Stage
Sequence No. | Title | Regulation Identifier No.
342 | Implementation of the Guam-CNMI Visa Waiver Program (Section 610 Review) (Reg Plan Seq No. 84) | 1651-AA77
References in boldface appear in The Regulatory Plan in part II of this issue of the Federal Register.

U.S. Customs and Border Protection—Long-Term Actions
Sequence No. | Title | Regulation Identifier No.
343 | Importer Security Filing and Additional Carrier Requirements (Section 610 Review) | 1651-AA70

Transportation Security Administration—Proposed Rule Stage
Sequence No. | Title | Regulation Identifier No.
344 | Security Training for Surface Mode Employees (Reg Plan Seq No. 86) | 1652-AA55
345 | Standardized Vetting, Adjudication, and Redress Services (Reg Plan Seq No. 87) | 1652-AA61
References in boldface appear in The Regulatory Plan in part II of this issue of the Federal Register.

Transportation Security Administration—Long-Term Actions
Sequence No. | Title | Regulation Identifier No.
346 | General Aviation Security and Other Aircraft Operator Security | 1652-AA53

DEPARTMENT OF HOMELAND SECURITY (DHS)

Office of the Secretary (OS)

Final Rule Stage

330. Ammonium Nitrate Security Program

Regulatory Plan: This entry is Seq. No. 68 in part II of this issue of the Federal Register.

RIN: 1601-AA52

DEPARTMENT OF HOMELAND SECURITY (DHS)

Office of the Secretary (OS)

Long-Term Actions

331. Chemical Facility Anti-Terrorism Standards (CFATS)

Legal Authority: sec 550 of the Department of Homeland Security Appropriations Act of 2007 Pub. L. 109-295, as amended.

Abstract: Earlier this year the Department of Homeland Security (DHS) invited public comment on an advance notice of proposed rulemaking (ANPRM) for potential revisions to the Chemical Facility Anti-Terrorism Standards (CFATS) regulations. DHS believes this ANPRM provides expanded opportunities for DHS to hear and consider the views of interested members of the public on their recommendations for possible program changes.

Timetable:

Action | Date | FR Cite
ANPRM | 08/18/14 | 79 FR 48693
ANPRM Comment Period End | 10/17/14 |
NPRM | To Be Determined

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20598-0610, Phone: 703 235-5263, Fax: 703 603-4712, Email: jon.m.maclaren@hq.dhs.gov.

RIN: 1601-AA69

DEPARTMENT OF HOMELAND SECURITY (DHS)

U.S. Citizenship and Immigration Services (USCIS)

Proposed Rule Stage

332. Administrative Appeals Office: Procedural Reforms to Improve Efficiency

Regulatory Plan: This entry is Seq. No. 72 in part II of this issue of the Federal Register.

RIN: 1615-AB98

DEPARTMENT OF HOMELAND SECURITY (DHS)

U.S. Coast Guard (USCG)

333. Numbering of Undocumented Barges

Legal Authority: 46 U.S.C. 12301.

Abstract: Title 46 U.S.C. 12301, as amended by the Abandoned Barge Act of 1992, requires that all undocumented barges of more than 100 gross tons operating on the navigable waters of the United States be numbered. This rulemaking would establish a numbering system and user fees for an original or renewed Certificate of Number for these barges. The numbering of undocumented barges allows the Coast Guard to identify the owners of abandoned barges. This rulemaking supports the Coast Guard's broad role and responsibility of protecting natural resources.

Timetable:

Action | Date | FR Cite
Request for Comments | 10/18/94 | 59 FR 52646
Comment Period End | 01/17/95 |
ANPRM | 07/06/98 | 63 FR 36384
ANPRM Comment Period End | 11/03/98 |
NPRM | 01/11/01 | 66 FR 2385
NPRM Comment Period End | 04/11/01 |
NPRM Reopening of Comment Period | 08/12/04 | 69 FR 49844
NPRM Reopening Comment Period End | 11/10/04 |
Supplemental NPRM | 04/00/15 |

Regulatory Flexibility Analysis Required: Yes.

Agency Contact: Denise Harmon, Project Manager, Department of Homeland Security, U.S. Coast Guard, National Vessel Documentation Center, 792 T.J. Jackson Drive, Falling Waters, WV 25419, Phone: 304 271-2506, Email: denise.e.harmon@uscg.mil.

RIN: 1625-AA14

334. Updates to Maritime Security

Legal Authority: 33 U.S.C. 1226; 33 U.S.C. 1231; 46 U.S.C. 701; 50 U.S.C. 191 and 192; EO 12656; 3 CFR 1988 Comp p 585; 33 CFR 1.05-1; 33 CFR 6.04-11; 33 CFR 6.14; 33 CFR 6.16; 33 CFR 6.19; DHS Delegation No 0170.1.

Abstract: The Coast Guard proposes certain additions, changes, and amendments to 33 CFR, subchapter H. Subchapter H is comprised of parts 101 through 106. Subchapter H implements the major provisions of the Maritime Transportation Security Act of 2002 (MTSA). This rulemaking is the first major revision to subchapter H. The proposed changes would further the goals of domestic compliance and international cooperation by incorporating requirements from legislation implemented since the original publication of these regulations, such as the Security and Accountability for Every (SAFE) Port Act of 2006, and including international standards such as Standards of Training, Certification & Watchkeeping security training. This rulemaking has international interest because of the close relationship between subchapter H and the International Ship and Port Security Code (ISPS).

Timetable:

Action | Date | FR Cite
NPRM | 01/00/15 |

Regulatory Flexibility Analysis Required: Yes.

Agency Contact: LCDR Kevin McDonald, Project Manager, Department of Homeland Security, U.S. Coast Guard, 2703 Martin Luther King Jr Ave, SE., Commandant (CG-FAC-2), STOP 7501, Washington, DC 20593-7501, Phone: 202 372-1168, Email: kevin.j.mcdonald@uscg.mil.

RIN: 1625-AB38

DEPARTMENT OF HOMELAND SECURITY (DHS)

U.S. Coast Guard (USCG)

Final Rule Stage

335. Vessel Requirements for Notices of Arrival and Departure, and Automatic Identification System

Regulatory Plan: This entry is Seq. No. 78 in part II of this issue of the Federal Register.

RIN: 1625-AA99

336. Inspection of Towing Vessels

Regulatory Plan: This entry is Seq. No. 79 in part II of this issue of the Federal Register.

RIN: 1625-AB06

337. Transportation Worker Identification Credential (TWIC); Card Reader Requirements

Regulatory Plan: This entry is Seq. No. 80 in part II of this issue of the Federal Register.

RIN: 1625-AB21

338. Marpol Annex 1 Update

Legal Authority: 33 U.S.C. 1902; 46 U.S.C. 3306

Abstract: In this rulemaking, the Coast Guard would amend the regulations in subchapter O (Pollution) of title 33 of the CFR, including regulations on vessels carrying oil, oil pollution prevention, oil transfer operations, and rules for marine environmental protection regarding oil tank vessels, to reflect changes to international oil pollution standards adopted since 2004. Additionally, this regulation would update shipping regulations in title 46 to require Material Safety Data Sheets, in accordance with international agreements, to protect the safety of mariners at sea.

Timetable:

Action | Date | FR Cite
NPRM | 04/09/12 | 77 FR 21360
NPRM Comment Period End | 07/26/12 |
Comment Period Extended | 09/07/12 | 77 FR 43741
Final Rule | 12/00/14 |

Regulatory Flexibility Analysis Required: Yes.

Agency Contact: LCDR William Nabach, Project Manager, Office of Design & Engineering Standards, CG-OES-2, Department of Homeland Security, U.S. Coast Guard, 2703 Martin Luther King Jr. Avenue SE., STOP 7509, Washington, DC 20593-7509, Phone: 202 372-1386, Email: william.a.nabach@uscg.mil.

RIN: 1625-AB57

339. Commercial Fishing Vessels—Implementation of 2010 and 2012 Legislation

Legal Authority: Pub. L. 111-281; title VI (Marine Safety)

Abstract: The Coast Guard is implementing those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard maritime safety mission.

Timetable:

Action | Date | FR Cite
Interim Final Rule | 05/00/15 |

Regulatory Flexibility Analysis Required: Yes.

Agency Contact: Jack Kemerer, Project Manager, CG-CVC-43, Department of Homeland Security, U.S. Coast Guard, 2703 Martin Luther King Jr. Avenue SE., STOP 7501, Washington, DC 20593-7501, Phone: 202 372-1249, Email: jack.a.kemerer@uscg.mil.

RIN: 1625-AB85

DEPARTMENT OF HOMELAND SECURITY (DHS)

U.S. Coast Guard (USCG)

Long-Term Actions

340. Outer Continental Shelf Activities

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Safety and Environmental Enforcement (BSEE). This project would revise the regulations on OCS activities by: (1) Adding new requirements, for OCS units for lifesaving, fire protection, training, and helidecks; (2) providing for USCG acceptance and approval of specified classification society plan reviews, inspections, audits, and surveys; and (3) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95 |
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00 |
Supplemental NPRM | To Be Determined

Regulatory Flexibility Analysis Required: Yes.

Agency Contact: Charles Rawson, Project Manager, Department of Homeland Security, U.S. Coast Guard, Commandant (CG-ENG-2), 2703 Martin Luther King Jr Avenue SE., STOP 7509, Washington, DC 20593-7509, Phone: 202 372-1390, Email: charles.e.rawson@uscg.mil.

RIN: 1625-AA18

DEPARTMENT OF HOMELAND SECURITY (DHS)

U.S. Coast Guard (USCG)

Completed Actions

341. Lifesaving Devices: Uninspected Vessels, Commercial Barges, and Sailing Vessels (Completion of a Section 610 Review)

Legal Authority: 46 U.S.C. 2103; 46 U.S.C. 4102; Department of Homeland Security Delegation No 0170.1(92)(a), (92)(b)

Abstract: The Coast Guard is aligning its regulations with the 2010 Coast Guard Authorization Act. Before 2010, uninspected commercial barges and uninspected commercial sailing vessels fell outside the scope of a statute requiring the regulation of lifesaving devices on uninspected vessels. Lifesaving devices were required on these vessels only if they carried passengers for hire. The 2010 Act brought these vessels within the scope of the statutory requirement to carry lifesaving devices even if they carry no passengers. The Coast Guard is requiring the use of wearable personal flotation devices for individuals on board uninspected commercial barges and sailing vessels, and amending several regulatory tables to reflect that requirement. This rulemaking promotes the Coast Guard's maritime safety mission.

Timetable:

Action | Date | FR Cite
NPRM | 07/17/13 | 78 FR 42739
NPRM Comment Period End | 10/15/13 |
Final Rule | 09/10/14 | 79 FR 53621
Final Rule Effective | 10/10/14 |

Regulatory Flexibility Analysis Required: No.

Agency Contact: Martin L. Jackson, Project Manager, Department of Homeland Security, U.S. Coast Guard, Commandant (CG-ENG-4), 2703 Martin Luther King Jr. Avenue SE., STOP 7509, Washington, DC 20593-7509, Phone: 202 372-1391, Email: martin.l.jackson@uscg.mil.

RIN: 1625-AB83

DEPARTMENT OF HOMELAND SECURITY (DHS)

U.S. Customs and Border Protection (USCBP)

Final Rule Stage

342. Implementation of the Guam-CNMI Visa Waiver Program (Section 610 Review)

Regulatory Plan: This entry is Seq. No. 84 in part II of this issue of the Federal Register.

RIN: 1651-AA77

DEPARTMENT OF HOMELAND SECURITY (DHS)

U.S. Customs and Border Protection (USCBP)

Long-Term Actions

343. Importer Security Filing And Additional Carrier Requirements (Section 610 Review)

Legal Authority: Pub. L. 109-347, sec 203; 5 U.S.C. 301; 19 U.S.C. 66; 19 U.S.C. 1431; 19 U.S.C. 1433 to 1434; 19 U.S.C. 1624; 19 U.S.C. 2071 (note); 46 U.S.C. 60105

Abstract: This final rule implements the provisions of section 203 of the Security and Accountability for Every Port Act of 2006. On November 25, 2008, CBP published an interim final rule (CBP Dec. 08-46) in the Federal Register (73 FR 71730), that finalized most of the provisions proposed in the NPRM. The interim final rule did not finalize six data elements that were identified as areas of potential concern for industry during the rulemaking process and, for which, CBP provided some type of flexibility for compliance with those data elements. CBP solicited public comment on these six data elements, is conducting a structured review, and also invited comments on the revised Regulatory Assessment and Final Regulatory Flexibility Analysis. [See 73 FR 71782-85 for regulatory text and 73 CFR 71733-34 for general discussion.] The remaining requirements of the rule were adopted as final. CBP plans to issue a final rule after CBP completes a structured review of the flexibilities and analyzes the comments.

Timetable:

Action | Date | FR Cite
NPRM | 01/02/08 | 73 FR 90
NPRM Comment Period End | 03/03/08 |
NPRM Comment Period Extended | 02/01/08 | 73 FR 6061
NPRM Comment Period End | 03/18/08 |
Interim Final Rule | 11/25/08 | 73 FR 71730
Interim Final Rule Effective | 01/26/09 |
Interim Final Rule Comment Period End | 06/01/09 |
Correction | 07/14/09 | 74 FR 33920
Correction | 12/24/09 | 74 FR 68376
Final Action | 02/00/16 |

Regulatory Flexibility Analysis Required: Yes.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

RIN: 1651-AA70

DEPARTMENT OF HOMELAND SECURITY (DHS)

Transportation Security Administration (TSA)

Proposed Rule Stage

344. Security Training for Surface Mode Employees

Regulatory Plan: This entry is Seq. No. 86 in part II of this issue of the Federal Register.

RIN: 1652-AA55

345. Standardized Vetting, Adjudication, and Redress Services

Regulatory Plan: This entry is Seq. No. 87 in part II of this issue of the Federal Register.

RIN: 1652-AA61

DEPARTMENT OF HOMELAND SECURITY (DHS)

Transportation Security Administration (TSA)

Long-Term Actions

346. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008, the Transportation Security Administration (TSA) issued a notice of proposed rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs. After considering comments received on the NPRM and sponsoring public meetings with stakeholders, TSA decided to revise the original proposal to tailor security requirements to the general aviation industry. TSA is preparing a supplemental NPRM (SNPRM), which will include a comment period for public comments. TSA is considering the following proposed provisions in the SNPRM: (1) security measures for foreign aircraft operators commensurate with measures for U.S. operators, (2) the type of aircraft subject to TSA regulation, (3) compliance oversight, (4) watch list matching of passengers, (5) scope of the background check requirements and the procedures used to implement the requirement, and (6) other issues.

Timetable:

Action | Date | FR Cite
NPRM | 10/30/08 | 73 FR 64790
NPRM Comment Period End | 12/29/08 |
Notice—NPRM Comment Period Extended | 11/25/08 | 73 FR 71590
NPRM Extended Comment Period End | 02/27/09 |
Notice—Public Meetings; Requests for Comments | 12/18/08 | 73 FR 77045
Supplemental NPRM | To Be Determined

Regulatory Flexibility Analysis Required: Yes.

Agency Contact: Kevin Knott, Manager, Industry Engagement Branch—Aviation Division, Department of Homeland Security, Transportation Security Administration, 601 South 12th Street, Arlington, VA 22304, Phone: 571 227-4370, Email: kevin.knott@dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

Denise Daniels, Attorney-Advisor, Regulations and Security Standards, Department of Homeland Security, Transportation Security Administration, Office of the Chief Counsel, 601 South 12th Street, Arlington, VA 20598-6002, Phone: 571 227-3443, Fax: 571 227-1381, Email: denise.daniels@tsa.dhs.gov.

RIN: 1652-AA53

[FR Doc. 2014-28967 Filed 12-19-14; 8:45 am]

BILLING CODE 9110-9B-P